DEPARTMENT OF EDUCATION

Applications for New Awards; Talent Search Program

AGENCY: Office of Postsecondary Education, Department of Education.

ACTION: Notice.

Overview Information

Talent Search Program

Notice inviting applications for new awards for fiscal year (FY) 2016.

Catalog of Federal Domestic Assistance (CFDA) Number: 84.044A.

Dates: Applications Available: December 22, 2015.

Deadline for Transmittal of Applications: February 5, 2016.

Deadline for Intergovernmental Review: April 20, 2016.

Full Text of Announcement

I. Funding Opportunity Description

Purpose of Program: The purpose of the Talent Search Program is to identify qualified individuals from disadvantaged backgrounds with potential for education at the postsecondary level and encourage them to complete secondary school and undertake postsecondary education. Talent Search projects publicize the availability of, and facilitate the application for, student financial assistance for persons who seek to pursue postsecondary education, and encourage persons who have not completed programs at the secondary or postsecondary level to enter or reenter and complete these programs.

Background: The Federal TRIO programs, including the Talent Search Program, represent a national commitment to education for all students regardless of race, ethnic background, disability status, or economic circumstances. Consistent with this mission, the Department has a strong interest in ensuring that students who are low-income, potential first-generation college students, limited English proficient, students from groups that are traditionally underrepresented in postsecondary education, students with disabilities, students who are homeless children and youths, students who are in foster care or are aging out of the foster care system, or other disconnected students receive services provided by Talent Search.

Priorities: This notice contains two competitive preference priorities. In accordance with 34 CFR 75.105(b)(2)(v), Competitive Preference Priority 1(a) is from allowable activities specified in the statute (see section 402B(c)(1) of the Higher Education Act of 1965, as amended (HEA))(20 U.S.C. 1070a-12(c)(1)). Competitive Preference Priority 1(b) is from 34 CFR 75.226. In accordance with 34 CFR 75.105(b)(2)(iv), Competitive Preference Priority 2(a) is from allowable activities specified in the statute (see section 402B(c)(6) of the HEA)(20 U.S.C. 1070a-12(c)(6)). Competitive Preference Priority 2(b) is from 34 CFR 75.226.

Applicants must include, in the one-page abstract submitted with the application, a statement indicating which, if any, of the competitive preference priorities are addressed. If the applicant addresses any of the competitive preference priorities, this information must also be listed on the Talent Search Program Profile Form.

Background on Competitive Preference Priorities: Each competitive preference priority has two parts—(a) and (b)—and the applicant must address both parts to receive consideration for the highest available number of points for that priority.

Competitive Preference Priority 1(a). Under Competitive Preference Priority 1(a), the Department will award a competitive preference to projects designed to provide academic tutoring, which may include instruction in reading, writing, study skills, mathematics, science, and other subjects. The Department is interested in receiving applications with strong plans to provide effective tutoring programs for students to increase the likelihood that they complete high school and enroll in a postsecondary institution. Applicants addressing this priority should demonstrate how their proposals will improve student outcomes consistent with the Talent Search Program.

Competitive Preference Priority 2(a). Through Competitive Preference Priority 2(a), the Department encourages applicants to propose strategies focused on developing mentoring programs. Mentoring programs are administered in various forms. Most scholars believe that mentoring is an important complement to other strategies employed to improve student outcomes. Yet, it is less clear which programmatic approaches to mentoring are particularly effective for students with different academic, social, or economic profiles. The Department is interested in receiving applications with strong plans to provide effective mentoring to students to increase the likelihood that they complete high school and enroll in a postsecondary institution. Applicants addressing this priority should demonstrate how their proposals will improve student outcomes consistent with the Talent Search Program.

Competitive Preference Priorities 1(b) and 2(b). To meet Competitive Preference Priority (1)(b) or (2)(b), applicants must cite research studies that support their proposed tutoring or mentoring strategies. Applicants must address part (a) of each priority to be considered for the points available in part (b) of each priority. In recognition of the growing and emergent body of available research on tutoring and mentoring strategies that improve student success, we will award points for studies with varying levels of methodological rigor: One point for studies that meet Evidence of Promise (as defined in this notice) or two points for studies that meet Moderate Evidence of Effectiveness (as defined in this notice).

Through Competitive Preference Priorities 1(b) and 2(b), an applicant can earn one additional point for each priority by demonstrating that its strategy is based on research that meets the Evidence of Promise standard or two additional points for each priority by demonstrating that its strategy is based on research that meets the Moderate Evidence of Effectiveness standard. Applicants seeking to address Competitive Preference Priority 1(b) or 2(b) should identify up to two citations for studies that meet the definition of the applicable evidence standard for each priority (a maximum of four citations if addressing both priorities). The Department will review the studies cited by the applicants to determine if they meet the requirements for Evidence of Promise or Moderate Evidence of Effectiveness.

Cited studies may include those already listed in the Department's What Works Clearinghouse (WWC) Reviewed Studies Database (see http://ies.ed.gov/ncee/wwc/ReviewedStudies.aspx) or those that are not included in that database. Studies listed in the WWC Reviewed Studies Database do not necessarily satisfy any or all of the criteria needed to meet either the Evidence of Promise standard or the Moderate Evidence of Effectiveness standard, as defined in this notice, and therefore it is important that applicants themselves ascertain the suitability of a study for an evidence priority.

Points will only be awarded if the submitted studies are determined to meet the particular evidence standard, and if a determination is made that the research cited is relevant to the proposed projects. Applicants addressing Competitive Preference Priorities 1(b) or 2(b) should clearly demonstrate the relevance of the cited studies to proposed project activities. Applicants should also clearly demonstrate how the proposed project activities align with the cited study with sufficient fidelity. Where modifications to the cited intervention will be made to account for student or institutional/organizational characteristics, resource limitations, or other special factors, the applicant should provide a justification or basis for the modifications in the narrative response to the priority.

The link(s) for the citation(s) submitted for Competitive Preference Priority 1(b) or 2(b) should be provided on the abstract, as well as on the Talent Search Program Profile Form. Applicants should specify in their narrative responses to these priorities the findings within the studies cited as evidence in support of their strategies and ensure that the citation(s) and link(s) are from an available source.

Competitive Preference Priorities: For FY 2016 and any subsequent year for which we make awards from the list of unfunded applicants from this competition, these priorities are competitive preference priorities. Under 34 CFR 75.105(c)(2)(i), we award up to six additional points to an application, depending on how well application meets one or more of these priorities.

The competitive preference priorities are:

Competitive Preference Priority 1(a)—Providing Academic Tutoring. The Secretary gives priority to projects designed to provide academic tutoring, which may include instruction in reading, writing, study skills, mathematics, science, and other subjects (1 additional point).

Competitive Preference Priority 1(b)—Strategies supported by Evidence of Promise (1 additional point) or by Moderate Evidence of Effectiveness (2 additional points).

Competitive Preference Priority 2(a)—Providing Mentoring Programs (1 additional point). The Secretary gives priority to projects designed to provide mentoring programs involving elementary or secondary school teachers or counselors, faculty members at institutions of higher education, students, or any combination of such persons (1 additional point).

Competitive Preference Priority 2(b)—Programs supported by Evidence of Promise (1 additional point) or on Moderate Evidence of Effectiveness (2 additional points).

Definitions:

The following definitions are from 34 CFR 77.1.

Evidence of Promise means there is empirical evidence to support the theoretical linkage(s) between at least one critical component and at least one relevant outcome presented in the logic model for the proposed process, product, strategy, or practice. Specifically, Evidence of Promise means the conditions in both paragraphs (i) and (ii) of this definition are met:

(i) There is at least one study that is a—

(A) Correlational study with statistical controls for selection bias;

(B) Quasi-experimental design study that meets the What Works Clearinghouse Evidence Standards with reservations; or

(C) Randomized controlled trial that meets the What Works Clearinghouse Evidence Standards with or without reservations.

(ii) The study referenced in paragraph (i) of this definition found a statistically significant or substantively important (defined as a difference of 0.25 standard deviations or larger) favorable association between at least one critical component and one relevant outcome presented in the logic model for the proposed process, product, strategy, or practice.

Moderate Evidence of Effectiveness means one of the following conditions is met:

(i) There is at least one study of the effectiveness of the process, product, strategy, or practice being proposed that meets the What Works Clearinghouse Evidence Standards without reservations, found a statistically significant favorable impact on a relevant outcome (with no statistically significant and overriding unfavorable impacts on that outcome for relevant populations in the study or in other studies of the intervention reviewed by and reported on by the What Works Clearinghouse), and includes a sample that overlaps with the populations or settings proposed to receive the process, product, strategy, or practice.

(ii) There is at least one study of the effectiveness of the process, product, strategy, or practice being proposed that meets the What Works Clearinghouse Evidence Standards with reservations, found a statistically significant favorable impact on a relevant outcome (with no statistically significant and overriding unfavorable impacts on that outcome for relevant populations in the study or in other studies of the intervention reviewed by and reported on by the What Works Clearinghouse), includes a sample that overlaps with the populations or settings proposed to receive the process, product, strategy, or practice, and includes a large sample and a multi-site sample. Note: Multiple studies can cumulatively meet the large and multi-site sample requirements as long as each study meets the other requirements in this paragraph.

Multi-site sample means more than one site, where site can be defined as an LEA, locality, or State.

Quasi-experimental design study means a study using a design that attempts to approximate an experimental design by identifying a comparison group that is similar to the treatment group in important respects. These studies, depending on design and implementation, can meet What Works Clearinghouse Evidence Standards with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet What Works Clearinghouse Evidence Standards without reservations.

Relevant outcome means the student outcome(s) (or the ultimate outcome if not related to students) the proposed process, product, strategy, or practice is designed to improve; consistent with the specific goals of a program.

What Works Clearinghouse Evidence Standards means the standards set forth in the What Works Clearinghouse Procedures and Standards Handbook (Version 3.0, March 2014), which can be found at the following link: http://ies.ed.gov/ncee/wwc/DocumentSum.aspx?sid=19.

Program Authority: 20 U.S.C. 1070a-11 and 1070a-12.

Applicable Regulations: (a) The Education Department General Administrative Regulations (EDGAR) in 34 CFR parts 74, 75 (except for §§ 75.215 through 75.221), 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The regulations for this program in 34 CFR part 643.

Note: The regulations in 34 CFR part 79 apply to all applicants except federally recognized Indian tribes.

Note: The regulations in 34 CFR part 86 apply to institutions of higher education only.

II. Award Information

Type of Award: Discretionary grants.

Estimated Available Funds: The Administration has requested $859,752,000 for the Federal TRIO Program for FY 2016, of which we intend to use an estimated $134,662,000 for Talent Search awards. The actual level of funding, if any, depends on final Congressional action. However, we are inviting applications to allow enough time to complete the grant process if Congress appropriates funds for this program.

Estimated Range of Awards: $230,000-$681,210.

Estimated Average Size of Awards: $265,754.

Maximum Award:

• For an applicant that is not currently receiving a Talent Search Program grant, the maximum award amount is $230,000 for a project that will serve a minimum of 500 participants, based upon a per-participant cost of no more than $460.

• For an applicant that is currently receiving a Talent Search Program grant, the maximum award amount is the greater of (a) $230,000 or (b) 100 percent of the applicant's base award amount for FY 2015. The minimum number of participants an applicant proposes to serve must be 500 and the project must propose a per-participant cost that does not exceed $460 per participant. For example, an applicant that is eligible for a $460,000 grant, must propose to serve at least 1,000 participants.

We will reject any application that proposes a budget exceeding the maximum amount listed above for a single budget period of 12 months. We will also reject any application that proposes a budget to serve fewer than 500 participants, and will reject any application that proposes a budget that exceeds the maximum per participant cost of $460.

Estimated Number of Awards: 451.

Note: The Department is not bound by any estimates in this notice.

Project Period: Up to 60 months.

III. Eligibility Information

1. Eligible Applicants: Institutions of higher education, public and private agencies, and organizations including community-based organizations with experience in serving disadvantaged youth, combinations of such institutions, agencies and organizations, and secondary schools, for planning, developing, or carrying out one or more of the services identified under this program.

2. Cost Sharing or Matching: This program does not require cost sharing or matching.

3. Other: An applicant may submit multiple applications if each separate application describes a project that will serve a different target area or different target schools. The term target area is defined as a geographic area served by a project, and the term target school is a school designated by the applicant as a focus of project services (34 CFR 643.7).

IV. Application and Submission Information

1. Address to Request Application Package: Craig Pooler, U.S. Department of Education, 1990 K Street NW., Suite 7010, Washington, DC 20006-8510. Telephone: (202) 502-7600; or email: TRIO@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the contact person listed in this section.

2. Content and Form of Application Submission: Requirements concerning the content of an application, together with the forms you must submit, are in the application package for this program.

Page Limit: The application narrative is where you, the applicant, address the selection criteria that reviewers use to evaluate your application. You must limit the project narrative (Part III), which includes the budget narrative, to the equivalent of no more than 65 pages using the following standards. However, any application addressing the competitive preference priorities may include up to two additional pages for each part of each priority (1(a) and (b); 2(a) and (b)), if addressed. Those up to eight additional pages must be used to discuss how the application meets the competitive preference priority (or priorities). The additional pages allotted to address priorities cannot be used for or transferred to the project narrative or any section of the application.

Note: For the purpose of determining compliance with the page limit, each page on which there is text or graphics will be counted as one full page.

A “page” is 8.5″ x 11″, on one side only, with 1″ margins at the top, bottom, and both sides. Page numbers and an identifier may be within the 1″ margin.

Double space (no more than three lines per vertical inch) all text in the project narrative.

Single space is appropriate for titles, headings, footnotes, quotations, references, and captions, as well as all text in figures, charts, and graphs.

You should also include a table of contents in the project narrative, which will not be counted toward the page limit.

Use a font that is either 12 point or larger, or no smaller than 10 pitch (characters per inch).

Use one of the following fonts: Times New Roman, Courier, Courier New, or Arial. An application submitted in any other font (including Times Roman and Arial Narrow) will not be accepted.

The page limit does not apply to Part I—the Application for Federal Assistance Face Sheet (SF 424); Part II—the budget information summary form (ED Form 524); Part III, the Talent Search Program Profile Form, the one-page Project Abstract form; and Part IV—the Assurances and Certifications. If you include any attachments or appendices, these items will be counted as part of Part III—the Project Narrative, for the purpose of the page-limit requirement. You must include your complete response to the selection criteria and priorities in Part III—the Project Narrative.

We will reject your application if you exceed the page limit.

3. Submission Dates and Times:

Applications Available: December 22, 2015.

Deadline for Transmittal of Applications: February 5, 2016.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under For Further Information Contact in section VII in this notice. If the Department provides an accommodation or auxiliary aid to an individual with a disability in connection with the application process, the individual's application remains subject to all other requirements and limitations in this notice.

Deadline for Intergovernmental Review: April 20, 2016.

4. Intergovernmental Review: This program is subject to Executive Order 12372 and the regulations in 34 CFR part 79. Information about Intergovernmental Review of Federal Programs under Executive Order 12372 is in the application package for this program.

5. Funding Restrictions: We specify unallowable costs in 34 CFR 643.31. We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications.

Applications for grants under the Talent Search Program, CFDA number 84.044A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Talent Search Program at www.Grants.gov. You must search for the downloadable application package for this program by the CFDA number. Do not include the CFDA number's alpha suffix in your search (e.g., search for 84.044, not 84.044A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: James Davis, U.S. Department of Education, 1990 K Street NW., Room 7007, Washington, DC 20006-8510. FAX: (202) 502-7545.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.044A) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.044A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program competition are in 34 CFR 643.21 and listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4,1 08.8, and 110.23).

For this competition, a panel of three non-Federal reviewers will review each application in accordance with the selection criteria, pursuant to 34 CFR 643.21. The individual scores assigned by the reviewers will be added and the sum divided by the number of reviewers to determine the peer reviewer score received in the review process. Additionally, in accordance with 34 CFR 643.22, the Secretary will award prior experience points to applicants that have conducted a Talent Search project during budget periods 2012-13, 2013-14, 2014-15, based on their documented experience. Prior experience points, if any, will be added to the application's averaged reader score to determine the total score for each application.

3. Tie-breaker: If there are insufficient funds for all applications with the same total scores, the Secretary will choose among the tied applications so as to serve geographical areas that have been underserved by the Talent Search Program.

4. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements:

We identify administrative and national policy requirements in the application package and reference these and other requirements in the Applicable Regulations section in this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The success of the Talent Search Program will be measured by secondary school persistence and graduation rates of Talent Search participants, as well as postsecondary enrollment and completion rates. All Talent Search Program grantees will be required to submit an annual performance report documenting secondary school persistence, secondary school graduation and postsecondary enrollment of their participants. Since students may take different amounts of time to complete their postsecondary education, multiple years of performance report data are needed to determine the postsecondary completion rates of Talent Search Program participants. The Department of Education will aggregate the data provided in the annual performance reports from all grantees to determine the accomplishment level.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Craig Pooler, U.S. Department of Education, 1990 K Street NW., Suite 7010, Washington, DC 20006-8510. Telephone: (202) 502-7600 or email: TRIO@ed.gov

If you use a TDD or a TTY, call the FRS, toll free, at 1-800-877-8339.

VIII. Other Information

Accessible Format: Individuals with disabilities can obtain this document and a copy of the application package in an accessible format (e.g., braille, large print, audiotape, or compact disc) on request to the program contact persons listed under For Further Information Contact in section VII if this notice.

Electronic Access to This Document: The official version of this document is the document published in the Federal Register. Free Internet access to the official edition of the Federal Register and the Code of Federal Regulations is available via the Federal Digital System at: www.gpo.gov/fdsys. At this site you can view this document, as well as all other documents of the Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Dated: December 16, 2015.
Jamienne S. Studley,
Deputy Under Secretary.

[FR Doc. 2015-32089 Filed 12-21-15; 8:45 am]

BILLING CODE 4000-01-P